SMALL BUSINESS ADMINISTRATION

13 CFR Parts 107 and 121

Small Business Investment Company Investment Diversification and Growth; Public Webinar

AGENCY: U.S. Small Business Administration (SBA).

ACTION: Notification of public webinar on program reforms.

SUMMARY: The SBA is holding a webinar to update the public on new regulations governing the Small Business Investment Company (SBIC) program contained in the final rule titled Small Business Investment Company Investment Diversification and Growth that goes into effect on August 17, 2023.

DATES: The public webinar will be held on Monday, August 28, 2023, from 4 to 5 p.m. Eastern Time.

ADDRESSES: The Small Business Investment Company Investment Diversification and Growth Final Rule Public Webinar will be live streamed on Microsoft Teams for the public.

FOR FURTHER INFORMATION CONTACT: The meeting will be live streamed to the public, and anyone wishing to attend or needing accommodations because of a disability can contact Shalei Holway, SBA, Office of Investment & Innovation (OII), (202) 941-1158, investinnovate@sba.gov.

SUPPLEMENTARY INFORMATION:

I. Background

On July 18, 2023, the U.S. Small Business Administration (“SBA” or “Agency”) published a notice of final rulemaking to revise the regulations for the Small Business Investment Company (“SBIC”) program to significantly reduce barriers to program participation for new SBIC fund managers and funds investing in underserved communities and geographies, capital intensive investments, and technologies critical to national security and economic development. The proposed rule introduced an additional type of SBIC (“Accrual SBICs”) to increase program investment diversification and patient capital financing for Small Businesses, modernize rules to lower financial barriers to program participation, and incorporate the statutory requirements of the Spurring Business in Communities Act of 2017, which was enacted on December 19, 2018. The final rule will go into effect August 17, 2023. More information about the final rule can be found here.

II. Questions

For the public webinar, OII strongly encourages that questions be submitted in advance by August 24, 2023. Individuals may email investinnovate@sba.gov with subject line—“[Name/Organization] Question for 08/28/23 Public Webinar.” During the live event, attendees will be in listen-only mode and may submit additional questions via the Q&A Chat feature.

III. Information on Service for Individuals With Disabilities

For information on services for individuals with disabilities or to request special assistance, contact Shalei Holway at the telephone number or email address indicated under the FOR FURTHER INFORMATION CONTACT section of this document.

Bailey DeVries,
Associate Administrator, Office of Investment & Innovation, U.S. Small Business Administration.

[FR Doc. 2023-17456 Filed 8-16-23; 8:45 am]

BILLING CODE 8026-09-P